DEPARTMENT OF TRANSPORTATION

Federal Aviation Administration

EUROCAE WG-99 PLENARY #8/RTCA SC-234 Plenary #5—Calling Notice “Portable Electronic Devices (PEDs)”

AGENCY: Federal Aviation Administration (FAA), U.S. Department of Transportation (DOT).

ACTION: EUROCAE WG-99 PLENARY #8/RTCA SC-234 Plenary #5—Calling Notice “Portable Electronic Devices (PEDs)”.

SUMMARY: The FAA is issuing this notice to advise the public of a meeting of EUROCAE WG-99 PLENARY #8/RTCA SC-234 Plenary #5—Calling Notice “Portable Electronic Devices (PEDs)”.

DATES: The meeting will be held August 23-25, 2016, 9:00 a.m. to 5:00 p.m. Tuesday-Wednesday, 9:00 a.m. to 12:00 p.m. Thursday.

ADDRESSES: The meeting will be held at: RTCA, Inc., 1150 18th Street NW., Suite 450, Washington, DC 20036. Individuals wishing for WebEx/Audio information should contact the person listed in the FOR FURTHER INFORMATION CONTACT section.

FOR FURTHER INFORMATION CONTACT: Karan Hofmann at khofmann@rtca.org or (202) 330-0680, Anna von Groote at anna.vongroote@eurocae.net or +33 1 40 92 79 26 or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the EUROCAE WG-99 PLENARY #8/RTCA SC-234 Plenary #5—Calling Notice “Portable Electronic Devices (PEDs)”. The agenda will include the following:

Tuesday, August 23, 2016—9:00 a.m.-5:00 p.m.

Opening Plenary:

1. Welcome and Administrative Remarks

2. Introductions

3. Agenda Review

4. Approval of the Minutes from April 2016 Meeting

5. Real Case Document Validation Report

6. Status of FRAC/Open Consultation of DO-XYZ/ED-130A

a. Comments status and resolution summary

b. Main outstanding issues requiring committee assessment for resolution

7. Status of FRAC/Open Consultation for DO-307A/ED-239

a. Comments status and resolution summary

b. Main outstanding issues requiring committee assessment for resolution

8. Interim Adjournment

Wednesday, August 24, 2016—9:00 a.m.-5:00 p.m.

Task Group Sessions

Thursday, August 25, 2016—9:00 a.m.-12:00 p.m.

Closing Plenary

1. Task Group Reports

a. Comments status and resolution summary

b. Confirm action plant to close last outstanding comments

2. Approval of DO-XYZ/ED-130A documents for submission to RTCA PMC and EUROCAE Council for publication

3. Approval of DO-307A/DO-239 documents for submission to RTCA PMC and EUROCAE Council for publication

4. Any other Business

5. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 20, 2016.
Mohannad Dawoud,
Management & Program Analyst, Partnership Contracts Branch, ANG-A17 NextGen, Procurement Services Division, Federal Aviation Administration.

[FR Doc. 2016-17759 Filed 7-26-16; 8:45 am]

BILLING CODE 4910-13-P